DEPARTMENT OF VETERANS AFFAIRS

[OMB Control No. 2900-NEW (VA Form 21-0958)]

Agency Information Collection (Notice of Disagreement) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before October 31, 2012.

ADDRESSES: Submit written comments on the collection of information through www.Regulations.gov; or to VA's OMB Desk Officer, OMB Human Resources and Housing Branch, New Executive Office Building, Room 10235, Washington, DC 20503 (202) 395-7316. Please refer to “OMB Control No. 2900-NEW (VA Form 21-0958)” in any correspondence.

FOR FURTHER INFORMATION CONTACT: Denise McLamb, Enterprise Records Service (005R1B), Department of Veterans Affairs, 810 Vermont Avenue NW., Washington, DC 20420, (202) 632-7479, fax (202) 632-7583 or email denise.mclamb@va.gov. Please refer to “OMB Control No. 2900-NEW (VA Form 21-0958).”

SUPPLEMENTARY INFORMATION: Title: Notice of Disagreement.

OMB Control Number: 2900-NEW (VA Form 21-0958).

Type of Review: New data collection.

Abstract: Veterans complete VA Form 21-0985 to indicate disagreement with a decision issued by Regional Office. This is the first step in the appeals process. The respondent may or may not continue with an appeal to the Board of Veteran Appeals (BVA) for an appeal, this form will be included in the claim folder as evidence. If the Veteran opts to continue to BVA for an appeal, this form will be included in the claim folder as evidence.

An agency may not conduct or sponsor, and a person is not required to respond to a collection of information unless it displays a currently valid OMB control number. The Federal Register Notice with a 60-day comment period soliciting comments on this collection of information was published on July 19, 2012, at page 42556.

Affected Public: Individuals or households.

Estimated Total Annual Burden: 65,000 hours.

Estimated Average Burden per Respondent: 30 minutes.

Frequency of Response: One-time.

Estimated Number of Respondents: 130,000.

Dated: September 26, 2012.
By direction of the Secretary.
Denise McLamb,
Program Analyst, Enterprise Records Service.

[FR Doc. 2012-24076 Filed 9-28-12; 8:45 am]

BILLING CODE 8320-01-P